NUCLEAR REGULATORY COMMISSION

[Docket No. 50-186]

In the Matter of the Curators of the University of Missouri, The University of Missouri Research Reactor; Order Modifying Emergency Plan Requirements

I

The Curators of the University of Missouri (the Licensee) hold Amended Facility License No. R-103 issued by the U.S. Nuclear Regulatory Commission (NRC or the Commission) pursuant to Title 10, Part 50, “Domestic Licensing of Production and Utilization Facilities” (10 CFR part 50), and Broad Scope Materials License No. 24-00513-39 issued by the NRC pursuant to 10 CFR part 30, “Rules of General Applicability to Domestic Licensing of Byproduct Material.” Amended Facility License No. R-103 authorizes the operation of the University of Missouri Research Reactor (MURR or the facility) in accordance with conditions specified therein. Broad Scope Materials License No. 24-00513-39 authorizes the possession and use of various byproduct, special nuclear, and source material at the Licensee's facility. The facility is located on the Licensee's campus in Columbia, Missouri.

II

On March 19 and April 5, 1990, the NRC staff issued two license amendments applicable to the Licensee's Special Nuclear Material and Source Material License No. SNM-247. At the request of the Licensee, the NRC terminated Special Nuclear Material and Source Material License No. SNM-247 on July 7, 1993. On that day, the Commission included the special nuclear materials that were listed on Special Nuclear Material and Source Material License No. SNM-247 in the University's newly issued Broad Scope Materials License No. 24-00513-39. The amendments collectively authorized the Licensee to possess and use certain specified quantities of uranium (depleted in U-235), neptunium-237, americium-241, plutonium-239, and plutonium-240. The Licensee's purpose in requesting the amendments was to conduct research related to the Transuranic Management by Pyropartitioning Separation (TRUMP-S) Research Project. The Licensee carried out this research in the Alpha laboratory at the MURR.

Three organizations and 10 individuals filed motions to intervene and requests for hearing on the license amendments. In response to the intervenors' filings, the Commission appointed a Presiding Officer to conduct an informal hearing pursuant to Subpart L, “Informal Hearing Procedures for NRC Adjudications” of the Commission's procedural regulations in 10 CFR part 2, “Rules of Practice for Domestic Licensing Proceedings and Issuance of Orders.” The Presiding Officer issued a First Initial Decision on April 5, 1991, followed by a Final Initial Decision on July 10, 1991.

The Licensee and the intervenors appealed various aspects of the proceeding and decisions of the Presiding Officer and the Commission to the Commission. In response, the Commission issued Memorandum and Order, CLI-95-01, dated February 28, 1995; Memorandum and Order, CLI-95-08, (Petitions for Reconsideration), dated June 22, 1995; Memorandum and Order, CLI-95-11, (Petition for Partial Reconsideration), dated August 22, 1995; and Memorandum and Order, CLI-95-17, (Petition for Reconsideration), dated December 14, 1995. The first three of these memoranda and orders required the Licensee to make changes to the MURR Emergency Plan (EP). The MURR EP was changed because the material, while under a NRC broad scope materials license, was being used in the Alpha Laboratory at MURR. In response to the memoranda and orders, the Licensee submitted proposed changes to the EP on December 20, 1995, as supplemented on May 1, 1996. The NRC staff reviewed the Licensee's proposed changes to the EP and, in a letter to the Licensee dated June 20, 1996, concluded that the proposed changes to the EP met the intent of the Commission's memoranda and orders and were acceptable as written.

III

By letter dated March 31, 2004, the Licensee requested changes to the EP to remove the requirements added to it by the Commission's memoranda and orders related to the TRUMP-S Research Project. The Licensee also requested the recision of the Commission's memoranda and orders requiring changes to the EP. The Licensee completed experiments at the MURR related to the TRUMP-S Research Project on September 30, 1997. By July 20, 1998, the Licensee had shipped all low-level waste from the project and completed final verification surveys documenting the decommissioning of the Alpha Laboratory. All transuranic waste (americium, neptunium, and plutonium) was shipped from the MURR to the Waste Isolation Pilot Plant on May 15, 2003. The NRC renewed Broad Scope Materials License No. 24-00513-39, effective December 22, 2003, with reduced possession limits for the radioisotope types associated with the TRUMP-S Research Project. The renewed license possession limits allow no radioisotope quantities in excess of the quantities listed in 10 CFR 30.72 Schedule C, “Quantities of Radioactive Materials Requiring Consideration of the Need for an Emergency Plan for Responding to a Release.” The NRC staff reviewed the Licensee's proposed changes to the EP and concluded that they will not decrease the effectiveness of the EP and are therefore acceptable.

IV

Accordingly, pursuant to Sections 104c, 161b and 161i of the Atomic Energy Act of 1954, as amended, and the Commission's regulations in 10 CFR part 50, it is hereby ordered that:

The changes to the University of Missouri Research Reactor Emergency Plan imposed by Commission-issued Memoranda and Orders CLI-95-01 dated February 28, 1995; CLI-95-08 dated June 22, 1995; and CLI-95-11 dated August 22, 1995, are hereby deleted and the changes to the Emergency Plan for the University of Missouri Research Reactor in the Licensee's letter of March 31, 2004, are approved.

V

Pursuant to the Atomic Energy Act of 1954, as amended, the licensee or any other person adversely affected by this Order may request a hearing within 30 days of the date of publication of this Order in the Federal Register. A request for a hearing or a petition for leave to intervene must be filed (1) By first class mail addressed to the Office of the Secretary, U.S. Nuclear Regulatory Commission, Washington, DC 20555-0001, Attention: Rulemaking and Adjudications Staff, or (2) by courier, express mail, or expedited delivery services to the Office of the Secretary, Sixteenth Floor, One White Flint North, 11555 Rockville Pike, Rockville, MD 20852, Attention: Rulemaking and Adjudications Staff. Because of continuing disruptions in delivery of mail to U.S. Government offices, it is requested that requests for hearing should also be transmitted to the Secretary of the Commission either by e-mail addressed to the Office of the Secretary, U.S. Nuclear Regulatory Commission, HEARINGDOCKET@nrc.gov, or by facsimile transmission addressed to the Office of the Secretary, U.S. Nuclear Regulatory Commission, Washington, DC, Attention: Rulemakings and Adjudications Staff at 301-415-1101 (the verification number is 301-415-1966).

A copy of the request for hearing and petition for leave to intervene must also be sent to the Director, Office of Nuclear Reactor Regulation and to the Assistant General Counsel for Operating Reactors and High Level Waste Programs, Office of the General Counsel, with both copies addressed to the U.S. Nuclear Regulatory Commission, Washington, DC 20555-0001. The NRC further requests that copies be transmitted either by facsimile transmission to 301-415-3725 or by e-mail to OGCMAILCENTER@nrc.gov.

If a person other than the Licensee requests a hearing, he or she shall set forth with particularity the manner in which his or her interest is adversely affected by this Order and shall address the criteria set forth in 10 CFR 2.309, “Hearing Requests, Petitions to Intervene, Requirements for Standing, and Contentions.”

If a hearing is requested by the Licensee or a person whose interest is adversely affected, the Commission will issue an order designating the time and place of any hearing. If a hearing is held, the issue to be considered at such hearing shall be whether this Order should be sustained.

In the absence of any request for a hearing or written approval of an extension of time in which to request a hearing, the provisions specified in Section IV above shall be effective and final 30 days from the date of publication of this Order in the Federal Register without further order or proceedings. If an extension of time for requesting a hearing has been approved, the provisions specified in Section IV shall be final when the extension expires if a hearing request has not been received.

In accordance with 10 CFR 51.10(d), this Order is not subject to Section 102(2) of the National Environmental Policy Act, as amended. The NRC staff notes, however, that with respect to environmental impacts associated with the changes imposed by this Order as described in the safety evaluation, the changes would, if imposed by other than an Order, meet the definition of a categorical exclusion in accordance with 10 CFR 51.22(c)(14)(v). Thus, pursuant to either 10 CFR 51.10(d) or 10 CFR 51.22(c)(14)(v), neither an environmental assessment nor an environmental impact statement is required.

For further information, see the application from the Licensee dated March 31, 2004 (Agencywide Documents Access Management System (ADAMS) Accession No. ML041040772), available for public inspection at the Commission's Public Document Room (PDR), located at One White Flint North, Public File Area O1 F21, 11555 Rockville Pike (first floor), Rockville, MD. Publicly available records will be accessible electronically from the ADAMS Public Electronic Reading Room on the Internet at the NRC Web site, http://www.nrc.gov/reading-rm/adams.thml. Persons who do not have access to ADAMS or who have problems in accessing the documents in ADAMS should contact the NRC PDR reference staff by telephone at 1-800-397-4209 or 301-415-4737 or by e-mail to PDR@nrc.gov.

Dated this 26th day of January 2007.
For the U.S. Nuclear Regulatory Commission.
Michael J. Case,
Director, Division of Policy and Rulemaking, Office of Nuclear Reactor Regulations.

[FR Doc. E7-1633 Filed 1-31-07; 8:45 am]

BILLING CODE 7590-01-P